DEPARTMENT OF JUSTICE

Office of Justice Programs

[OMB Number 1121—NEW]

Agency Information Collection Activities: Proposed Collection; Comment Request New Collection; 2012 Census of Adult Probation Supervising Agencies

ACTION: 60-Day notice of information collection under review.

The Department of Justice (DOJ), Office of Justice Programs, will be submitting the following information collection request to the Office of Management and Budget (OMB) for review and approval in accordance with the Paperwork Reduction Act of 1995. The proposed information collection is published to obtain comments from the public and affected agencies. Comments are encouraged and will be accepted for “sixty days” until January 30, 2012. This process is in accordance with 5 CFR 1320.10.

If you have comments especially on the estimated public burden or associated response time, suggestions, or need a copy of the proposed information collection instrument with instructions or additional information, please contact Lauren E. Glaze, Statistician (202) 305-9628, Bureau of Justice Statistics (BJS), 810 Seventh St. NW., Washington, DC 20531.

Written comments and suggestions from the public and affected agencies concerning the proposed collection of information are encouraged. Your comments should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of This Information Collection

(1) Type of information collection: New collection. While the BJS conducted a census of probation and parole agencies in 1991, the 2012 Census of Adult Probation Supervising Agencies is now a standalone collection. This collection's scope is narrower and only includes adult probation agencies and the adult probationers supervised by the agencies. The scope of the 1991 census was broader and included both adult probation and parole agencies as well as adult and juvenile probationers and parolees supervised by those agencies.

(2) The title of the Form/Collection: 2012 Census of Adult Probation Supervising Agencies.

(3) The agency form number, if any, and the applicable component of the Department sponsoring the collection: Form: CAPSA-2012. Corrections Statistics Program, Bureau of Justice Statistics, Office of Justice Programs, United States Department of Justice.

(4) Affected public who will be asked to respond, as well as a brief abstract: Primary: State or Local Government. Other: Federal Government. The work under this clearance will be used to develop a national roster of adult probation supervising agencies and their offices and to provide national and state-specific statistics that describe the characteristics, organization, and operations of adult probation supervising agencies in the U.S. The Bureau of Justice Statistics will use this information in published reports and for the U.S. Congress, Executive Office of the President, practitioners, researchers, students, the media, and others interested in criminal justice statistics. No other collection series provides these data.

(5) An estimate of the total number of respondents and the amount of time estimated for an average respondent to respond: It is estimated that approximately 1,400 respondents will spend 8 minutes on average responding to a telephone screener to determine if each meet the BJS definition of a probation agency and supervise adults. The initial roster of potential adult probation supervising agencies was developed using available information sources and the telephone screener will be necessary to ensure that each meet the BJS criteria for inclusion in the census. Those that do not meet these two criteria will not be asked to complete the full questionnaire. It is estimated that approximately 95% or about 1,330 respondents will meet the BJS definition of a probation agency and supervise adults. These respondents will spend approximately two hours on average responding to the full questionnaire (Web instrument).

(6) An estimate of the total public burden (in hours) associated with the collection: There are an estimated 2,847 total maximum burden hours associated with this collection.

If additional information is required, contact: Jerri Murray, Department Clearance Officer, United States Department of Justice, Justice Management Division, Policy and Planning Staff, Two Constitution Square, 145 N Street NE., Suite 2E-508, Washington, DC 20530.

Jerri Murray,
Department Clearance Officer, PRA, United States Department of Justice.

[FR Doc. 2011-30406 Filed 11-30-11; 8:45 am]

BILLING CODE 4410-18-P